DEPARTMENT OF AGRICULTURE

Forest Service

Bitterroot, Flathead and Lolo National Forests Land and Resource Management Plan Revision. Bitterroot, Flathead and Lolo National Forests Here Referred to as the Western Montana Planning Zone in Ravalli, Missoula, Mineral, Sanders, Lake, Flathead, Lincoln, Lewis and Clark, Granite, and Powell Counties, MT, and Idaho County, ID

AGENCY: Forest Service, USDA.

ACTION: Notice of intent to prepare an environmental impact statement.

SUMMARY: The Bitterroot, Flathead, and Lolo National Forests will prepare an Environmental Impact Statement (EIS) to document the analysis and disclose the potential environmental impacts of implementing the actions proposed in revision of the Land and Resource Management Plans for the Bitterroot, Flathead and Lolo National Forests. The proposal seeks to update forest plans and respond to six major needs for change. A Notice of Intent was published May 10, 2002, in the Federal Register, Vol. 67, No. 91, p. 31761. This is a revision of that notice in order to provide a detailed proposed action for public review and comment. The proposed action can be viewed at http://www.fs.fed.us/rl/wmpz/.

Public Involvement: The public is invited to comment on the Proposed Action at any point during the 90-day comment period beginning on January 23, 2004 and ending on April 22, 2004. To get on the mailing list contact Amy Lehtola at phone number (406) 363-7191, or e-mail: alehtola@fs.fed.us.

DATES: Initial comments concerning the proposed action should be received in writing, no later than 90 days from the publication of this notice of intent.

ADDRESSES: Please send comments to: Western Montana Planning Zone Revision Team, Lolo National Forest, Building 24, Fort Missoula, Missoula, MT 59804. Written comments may also be electronically submitted to wmpz@fs.fed.us.

FOR FURTHER INFORMATION CONTACT: Lee Kramer, Interdisciplinary Team Leader, Lolo National Forest, Fort Missoula, Bldg. 24, Missoula, MT 59804, phone number (406) 329-3848 or e-mail lkramer@fs.fed.us.

Responsible Official: Bradley E. Powell, Regional Forester, Northern Region, 200 E. Broadway, Missoula, MT 59807.

SUPPLEMENTARY INFORMATION: We are revising the original Notice of Intent, [Federal Register, Vol. 67, No. 91, page 31761, May 10, 2002] in order to provide a proposed action for public review and comment. The proposed action focuses on six major revision topics identified in the Analysis of the Management Situation (AMS): (1) Access Management, (2) Ecosystem Management, (3) Forest and Private Land Interface, (4) Forest Products, (5) Recreation and Outfitter Guide Management, and (6) Recommended Wilderness and Roadless Areas. The proposed action will also address management of dams in the Selway Bitterroot Wilderness. Proposed actions relating to the Bob Marshall Wilderness Complex, jointly managed by the Flathead, Lolo, Lewis and Clark, and Helena National Forests, may also be included under this analysis. The Analysis of the Management Situation and other supporting documents can be viewed at http://www.fs.fed.us/rl/wmpz/. We are coordinating efforts with Tribal and other governments, Bureau of Land Management, U.S. Fish and Wildlife Service, Montana Fish, Wildlife, and Parks as well as with County Commissioners. The following public meetings have been scheduled to aid people in understanding the proposal:

Date | Time | Place
February 17, 2004 | 6 to 8 p.m. | Holiday Inn Parkside, Missoula, Montana.
February 18, 2004 | 7 to 9 p.m. | Community Center, Seeley Lake, Montana.
February 19, 2004 | 6:30 to 8:30 p.m. | Superior High School, Superior, Montana.
February 23, 2004 | 6:30 to 8:30 p.m. | Frenchtown High School, Ninemile, Montana.
February 25, 2004 | 6:30 to 8:30 p.m. | Fairgrounds, Sanders County, Plains, Montana.
February 26, 2004 | 1 to 8 p.m. | West Coast Hotel, Kalispell, Montana.
March 1, 2004 | TBA * | Stevensville, Montana.
March 2, 2004 | TBA * | Hamilton, Montana.
March 3, 2004 | TBA * | Darby, Montana.
March 4, 2004 | TBA * | Sula/West Fork, Montana.
TBA *: Meeting time and location to be announced.

To assist the Forest Service with identification and consideration of issues and concerns regarding the proposed action, comments should be in writing and as specific as possible. It is also helpful if comments refer to specific pages or sections of the proposed action. Reviewers may wish to refer to the Council on Environmental Quality Regulations for implementation of procedural provisions of the National Environmental Policy Act at 40 CFR 1503.3.

Additional public comment will be accepted after publication of the DEIS anticipated by March 2005. The Final EIS and Records of Decision for the Revised Forest Plans are expected in 2006.

Dated: January 13, 2004.
Bradley E. Powell,
Regional Forester.

[FR Doc. 04-1088 Filed 1-16-04; 8:45 am]

BILLING CODE 3410-11-M